DEPARTMENT OF COMMERCE

International Trade Administration

[A-583-803]

Light-Walled Welded Rectangular Carbon Steel Tubing From Taiwan: Final Results of the Expedited Fourth Sunset Review of the Antidumping Duty Order

AGENCY: Enforcement and Compliance, International Trade Administration, Department of Commerce.

SUMMARY: As a result of this sunset review, the Department of Commerce (the Department) finds that revocation of the antidumping duty (AD) order on light-walled welded rectangular carbon steel tubing from Taiwan (steel tubing) would likely lead to a continuation or recurrence of dumping. Further, the magnitude of the margin of dumping that are likely to prevail is identified in the “Final Results of Review” section of this notice.

DATES: Effective May 9, 2017.

FOR FURTHER INFORMATION CONTACT: Catherine Cartsos or Minoo Hatten, AD/CVD Operations, Office I, Enforcement and Compliance, International Trade Administration, U.S. Department of Commerce, 1401 Constitution Avenue NW., Washington, DC 20230; telephone: (202) 482-1757 and (202) 482-1690, respectively.

SUPPLEMENTARY INFORMATION:

Background

On March 27, 1989, the Department published the AD order on steel tubing from Taiwan.¹ On January 3, 2017, the Department published the notice of initiation of the fourth sunset review of the AD order on steel tubing,² pursuant to section 751(c) of the Tariff Act of 1930, as amended (the Act).

¹ Antidumping Duty Order; Light-Walled Welded Rectangular Carbon Steel Tubing from Taiwan, 54 FR 12467 (March 27, 1989).

² See Initiation of Five-Year (“Sunset”) Reviews, 82 FR 84 (January 3, 2017) (Initiation).

On January 10, 2017, the Department received a notice of intent to participate on behalf of Atlas Tube, Bull Moose Tube, and Searing Industries (collectively, the domestic interested parties) within the 15-day period specified in 19 CFR 351.218(d)(1)(i). The domestic interested parties claimed interested party status under section 771(9)(C) of the Act as manufacturers in the United States of a domestic like product.

On February 2, 2017, the Department received a complete substantive response to the Initiation from the domestic interested parties within the 30-day period, specified in 19 CFR 351.218(d)(3)(i).³ We received no substantive responses from respondent interested parties. As a result, pursuant to section 751(c)(3)(B) of the Act and 19 CFR 351.218(e)(1)(ii)(C)(2), the Department conducted an expedited (120-day) sunset review of the AD order on steel tubing from Taiwan.

³ See Letter from domestic interested parties regarding “Light-Walled Rectangular Welded Carbon Steel Pipe and Tube from Taiwan, Fourth Sunset Review: Substantive Response to Notice of Initiation,” dated February 2, 2017.

Scope of the Order

The product covered by the order is light-walled welded carbon steel pipe and tube of rectangular (including square) cross-section having a wall thickness of less than 0.156 inch. This merchandise is classified under item number 7306.61.5000 of the Harmonized Tariff Schedule (HTS). It was formerly classified under item number 7306.60.5000. The HTS item numbers are provided for convenience and customs purposes only. The written product description remains dispositive.

Analysis of Comments Received

All issues raised in this sunset review, including the likelihood of continuation or recurrence of dumping and the magnitude of the margin of dumping likely to prevail if the order is revoked, are addressed in the Issues and Decision Memorandum.⁴ The Issues and Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Issues and Decision Memorandum can be accessed directly on the Internet at http://enforcement.trade.gov/frn.

⁴ See Memorandum from Associate Deputy Assistant Secretary Gary Taverman to Acting Assistant Secretary Ronald K. Lorentzen entitled, “Issues and Decision Memorandum for the Final Results of the Expedited Fourth Sunset Review of the Antidumping Duty Order on Light-Walled Welded Rectangular Carbon Steel Tubing from Taiwan,” dated concurrently with, and hereby adopted by this notice (Issues and Decision Memorandum).

Final Results of Sunset Review

Pursuant to sections 751(c)(1) and 752(c)(1) and (3) of the Act, the Department determines that revocation of the AD order on steel tubing from Taiwan would be likely to lead to continuation or recurrence of dumping, and that the magnitude of the margin of dumping likely to prevail if the AD order is revoked would be up to 40.97 percent.

Notification Regarding Administrative Protective Order

This notice serves as the only reminder to the parties subject to administrative protective order (APO) of their responsibility concerning the return or destruction of propriety information disclosed under APO in accordance with 19 CFR 351.305. Timely written notification of the return or destruction of APO materials or conversion to judicial protective order is hereby requested. Failure to comply with the regulations and terms of an APO is a violation subject to sanction.

Notification to Interested Parties

We are issuing and publishing the final results and notice in accordance with sections 751(c), 752(c), and 777(i)(1) of the Act and 19 CFR 351.221(c)(5)(ii).

Dated: May 3, 2017.
Ronald K. Lorentzen,
Acting Assistant Secretary For Enforcement and Compliance.

[FR Doc. 2017-09355 Filed 5-8-17; 8:45 am]

BILLING CODE 3510-DS-P